DEPARTMENT OF HEALTH AND HUMAN SERVICES

National Institutes of Health

National Heart, Lung, and Blood Institute; Amended Notice of Meeting

Notice is hereby given of a change in the meeting of the National Heart, Lung, and Blood Advisory Council, September 9, 2008, 1 p.m. to 3 p.m., National Institutes of Health, Building 31, 31 Center Drive, Conference Room 10, Bethesda, MD, 20892 which was published in the Federal Register on July 31, 2008, FRE8-17517.

The meeting is open to the public from 1-1:30 p.m. and closed to the public from 1:30-3 p.m. The rest of the information remains the same.

Dated: August 19, 2008.
Jennifer Spaeth,
Director, Office of Federal Advisory Committee Policy.

[FR Doc. E8-19672 Filed 8-25-08; 8:45 am]

BILLING CODE 4140-01-M